FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—10/30/2006
20070030 | E. Merck OGH | Erniesio Bertarelli | Bertarelli Biotech S.A.
20070073 | ValueAct Capital Master Fund, L.P | Misys plc | Misys plc.
20070079 | Entergy Corporation | CMS Energy Corporation | Consumers Energy Company.
20070082 | Welsh, Carson, Anderson & Stowe X, L.P | ACS Media Income Fund | ACS Media Canada Inc.
20070083 | The Goldman Sachs Group, Inc | Robyn Simon | Holdco (LLC).
20070087 | Roche Holding Ltd | InterMune, Inc | InterMune, Inc.
20070090 | USI Holdings Corporation | Kibble & Prentice Holding Company | Kibble & Prentice Holding Company.
20070099 | Informa, Plc | Lawrence Erlbaum | Lawrence Erlbaum Associates, Inc., Publishers.
|  |  | New Concept Press, Inc.
|  |  | The Analytic Press, Inc.
20070100 | Sharad Kumar Tak | Ronald H. Van Den Heuvel | Eco Fibre, Inc.
|  |  | Oconto Falls Tissue, Inc.
|  |  | Recovering Aqua Resources, Inc.
20070102 | Ralcorp Holdings, Inc | Terry R. Knutson and Rose Knutson | Cottage Bakery, Inc.
20070103 | Sequoia Capital XI, L.P | Google, Inc | Google, Inc.
20070106 | J.C. Flowers I LP | USAgencies, L.L.C. | USAgencies, L.L.C.
20070113 | Arrowpoint Capital Corp | Royal & Sun Alliance Insurance Group plc | Arrowpoint General Partnership.
20070119 | Steve S. Chen | Google Inc | Google Inc.
20070120 | Chad M. Hurley | Google Inc | Google Inc.
TRANSACTIONS GRANTED EARLY TERMINATION—10/31/2006
20060891 | Watson Pharmaceuticals, Inc | Andrx Corporation | Andrx Corporation.
20061681 | Joseph M. & Marie H. Field | Sumner M. Redstone | CBS Radio Inc. of Illinois.
|  |  | CBS Radio Stations Inc.
|  |  | Texas CBS Radio L.P.
TRANSACTIONS GRANTED EARLY TERMINATION—11/01/2006
20061861 | Aquila, Inc | Calpine Corporation | MEP Pleasant Hill, LLC.
20070055 | J.H. Whitney VI, L.P | Landry's Restaurants, Inc | Joes' Crab Shack-Delaware, Inc.
20070094 | Alimentation Couche-Tard Inc | Royal Dutch Shell plc | Equilon Enterprises LLC.
20070095 | Alimentation Couche-Tard Inc | Royal Dutch Shell plc | Motiva Enterprises LLC.
20070107 | Alimentation Couche-Tard Inc | Aramco Services Company | Motiva Enterprises LLC.
20070108 | IntercontinentalExchange, Inc | Board of Trade of the City of New York, Inc. | Board of Trade of the City of New York, Inc.
20070109 | Sun Capital Partners IV, LP | Kirtland Capital Partners III L.P | Essex Holdings LLC.
20070112 | International Business Machines Corporation | Carmine Cacciavillani | Palisades Technology Partners LLC.
20070121 | Lehman Brothers Holdings Inc | Wilton Re Holdings Limited | Wilton Re Holdings Limited.
20070128 | Neways Holdings LTD | Leslie DeeAnn Mower | Cosmeceutical Creations Corporation, Ltd.
|  |  | LTM Enterprises, Inc.
|  |  | Neways DISC, Inc.
20070129 | Neways Holdings Ltd | Thomas E. Mower | Cosmeceutical Creations Corporation Ltd.
|  |  | LTM Enterprises, Inc.
|  |  | Neways DISC, Inc.
20070131 | Noverco Inc | Green Mountain Power Corporation | Green Mountain Power Corporation.
TRANSACTIONS GRANTED EARLY TERMINATION—11/02/2006
20070070 | ADF Restaurant Group, LLC | Yum! Brands, Inc | Blue Ridge Pizza Hut, Inc.
|  |  | Chesapeake Bay Pizza Hut, Inc.
|  |  | Mountaineer Pizza Hut, Inc.
|  |  | Oriole Pizza Hut, Inc.
|  |  | Pizza Hut, Inc.
|  |  | Pizza Hut of Alleghany County No. 1, Inc.
|  |  | Pizza Hut of Alleghany County No. 2, Inc.
|  |  | Pizza Hut of Alleghany County No. 3, Inc.
|  |  | Pizza Hut of America, Inc.
|  |  | Pizza Hut of Charles County, Inc.
|  |  | Pizza Hut of Frederick County No. 1, Inc.
|  |  | Pizza Hut of Frederick County No. 2, Inc.
|  |  | Pizza Hut of Frederick County No. 3, Inc.
|  |  | Pizza Hut of Frederick County No. 4, Inc.
|  |  | Pizza Hut of Frederick County No. 5, Inc.
|  |  | Pizza Hut of Frederick County No. 6, Inc.
|  |  | Pizza Hut of St. Mary's County, Inc.
|  |  | Pizza Hut of Washington County, No. 1, Inc.
|  |  | Pizza Hut of Washington County No. 2, Inc.
|  |  | Pizza Hut of Washington County No. 3, Inc.
|  |  | Potomac Pizza Hut, Inc.
|  |  | Red Raider Pizza Company.
20070080 | Martinrea International Inc | ThyssenKrupp AG | MFSP, Inc.
|  |  | Thyssenkrupp Budd Canada, Inc.
|  |  | ThyssenKrupp Budd Company.
|  |  | ThyssenKrupp Budd Systems Canada, Ltd.
|  |  | ThyssenKrupp Budd Systems, LLC.
|  |  | ThyssenKrupp Fabco Corp.
|  |  | ThssenKrupp Fabco, Inc.
|  |  | ThyssenKrupp Hopkinsville, LLC.
20070084 | Oak Hill Capital Partners II, L.P | Arnold Logistics, LLC | Arnold Logistics, LLC.
20070088 | Google Inc | YouTube, Inc | YouTube, Inc.
20070133 | Blackhawk Acquisition Company | Baxter International Inc | Baxter Healthcare Corporation.
TRANSACTIONS GRANTED EARLY TERMINATION—11/03/2006
20070067 | PAREXEL International Corporation | Behavioral and Medical Research, LLC | Behavioral and Medical Research, LLC.
20070071 | Flextronics International Ltd | International DisplayWorks, Inc | International DisplayWorks, Inc.
20070072 | McAfee, Inc | Citadel Security Software, Inc | Canberra, LLC.
|  |  | Canberra Operating, L.P.
|  |  | Citadel Security Software International, LLC.
20070141 | Sidney Kohl | Harold Blumenstein | EF&A Funding, L.L.C.
20070143 | Thoma Cressey Fund VIII, L.P | Harvey E. Najim | Sirius Computer Solutions, Inc.
20070152 | Acquicor Technology Inc | Jazz Semiconductor, Inc | Jazz Semiconductor, Inc.
20070158 | Mr. Andre Kudelski | Liberty Media Corporation | OpenTV.
20070183 | Chattem, Inc | Johnson & Johnson | Johnson & Johnson.
TRANSACTIONS GRANTED EARLY TERMINATION—11/07/2006
20070085 | Illinois Tool Works, Inc | KPS Special Situations Fund II (A), L.P | Speedline Holdings, I, LLC.
20070110 | Carl C. Icahn | Lear Corporation | Lear Corporation.
20070111 | Icahn Partners Master Fund LP | Lear Corporation | Lear Corporation.
20070125 | Icahn Partners LP | Lear Corporation | Lear Corporation.
20070132 | Sun Capital Partners IV, LP | Big 10 Tires Stores, Inc | Big 10 Tires Stores, Inc.
TRANSACTIONS GRANTED EARLY TERMINATION—11/09/2006
20070140 | Snap-on Incorporated | ProQuest Company | ProQuest Alison, Inc.
|  |  | ProQuest Business Solutions Inc.
|  |  | ProQuest Business Solutions, Ltd.
|  |  | ProQuest Information Access, Ltd.
|  |  | ProQuest UK Holdings, Ltd.
20070147 | Arrow Electronics, Inc | Alternative Data Technology, Inc | Alternative Data Technology, Inc.
20070177 | Banco Santander Central Hispano, S.A | HBOS plc | Drive Consumer USA, Inc.
TRANSACTIONS GRANTED EARLY TERMINATION—11/13/2006
20061796 | Vivendi S.A. | Mr. Reinhard Mohn | Arvato de Mexido, S.A. de C.V.
|  |  | Bertelsmann AG.
|  |  | Bertelsmann Holding Spain, S.A.
|  |  | Bertelsmann Music Group Gmhb.
|  |  | Bertelsmann Music Group LLC.
|  |  | BMG Deutschland GmbH.
|  |  | MBG France S.A.S.
|  |  | BMG Music Publishing Canada Inc.
20070069 | Blue Cross Blue Shield of Michigan | Regents of the Unviersity of Michigan | M-CAID.
|  |  | M-CARE.
|  |  | Michigan Health Insurance Company.
TRANSACTIONS GRANTED EARLY TERMINATION—11/14/2006
20070134 | Healthways, Inc | AXIA Health Management, LLC | AXIA Health Management, Inc.
20070146 | Kobayashi Pharmaceutical Co., Ltd | Heatmax, Inc | Heatmax, Inc.
20070149 | Apollo Investment Fund, VI, L.P | Jacuzzi Brands, Inc | Jacuzzi Brands, Inc.
20070180 | Unifi, Inc | Dillon Yarn Corporation | Dillon Yarn Corporation.
20070181 | Old Republic International Company | Aon Corporation | Special Risk Resources Insurance Agency.
|  |  | Virginia Surety Company, Inc.
20070193 | FRIT PINN LLC | Crown Castle International Corp | Crown Castle International Corp.
20070194 | FIT GSL LLC | Crown Castle International Corp | Crown Castle International Corp.
20070196 | Abrams Capital Partners II, L.P | Crown Castle International Corp | Crown Castle International Corp.
20070197 | Riva Capital Partners, L.P | Crown Castle International Corp | Crown Castle International Corp.
20070198 | Whitecrest Partners, L.P | Crown Castle International Corp | Crown Castle International Corp.
20070199 | Trevor Lloyd | Indus International, Inc | Indus International, Inc.
20070201 | Harpoon Acquisition Corporation | Open Solutions, Inc | Open Solutions, Inc.
20070205 | Madison Dearborn Capital Partners V-A, L.P | The Yankee Candle Company, Inc | The Yankee Candle Company, Inc.
20070206 | Thoma Cressey Fund VIII, L.P | Harbert Private Equity Fund II, L.L.C | Community Hospices of America, Inc.
20070209 | Level 3 Communications, Inc | Broadwing Corporation | Broadwing Corporation.
20070211 | InterMedia Partners VII, L.P | LIN TV Corp | LIN Television of San Juan, Inc.
|  |  | S&E Network, Inc.
|  |  | WAPA America, Inc.
20070216 | The James Balsillie Family Trust II | Lemieux Group, LP | Lemieux Development, LP.
|  |  | Pittsburgh Penguins Enterprises Company.
|  |  | WBS Hockey, LP.
20070217 | Cap Gemini SA | Kanbay International, Inc | Kanbay International, Inc.
20070220 | AT&T, Inc | Deutsche Telekom AG | T-Moblie USA, Inc.
20070225 | ABRY Partners V, L.P | William Ruch | Psychological Services, Inc.
20070226 | Doughty Hanson & Co. IV | Zobele Holding S.p.A | Zobele Holding S.p.A.
20070228 | Harbinger Capital Partners Offshore Fund I, Ltd | Applica Incorporated | Applica Incorporated.
20070230 | Court Square Capital Partners II, L.P | Soros Limited Partner, LLC | AE Europe Holdings, Inc.
20070232 | Community Newspaper Holdings, Inc | Dow Jones & Company, Inc | Ottaway Newspapers of Pennsylvania, L.P.
|  |  | Ottoway Newspapers, Inc.
|  |  | The Mail Tribune, Inc.
|  |  | The Santa Cruz Sentinel, Inc.
|  |  | The Traverse City Record-Eagle, Inc.
20070233 | Catlin Group Limited | Wellington Underwriting plc | Wellington Underwriting plc.
20070234 | Oracle Corporation | MetaSolv, Inc | MetaSolv, Inc.
20070241 | Affordable Care Holding Corp | Affordable Care, Inc | Affordable Care, Inc.
20070242 | Nautic Partners V, L.P | The Resolute Fund, L.P | Precision Engineered Products Holdings, Inc.
TRANSACTIONS GRANTED EARLY TERMINATION—11/15/2006
20070114 | AIG Highstar Capital II, L.P | Interstate Waste Services Holding Company, Inc | Interstate Waste Services Holding Company, Inc.
20070179 | TransMontaigne Partners, L.P | Morgan Stanley | TransMontaigne Product Services, Inc.
20070186 | Oak Hill Capital Partners II, L.P | Atlas Copco AB | Atlas Copco North America, Inc.
20070187 | Ripplewood Partners II, L.P | Atlas Copco AB | Atlas Copco North America, Inc.
TRANSACTIONS GRANTED EARLY TERMINATION—11/17/2006
20070191 | Tenaska Power Fund, L.P | Constellation Energy Group, Inc | Big Sandy Peaker Plant, LLC.
|  |  | CP High Desert II, Inc.
|  |  | CP High Desert I, Inc.
|  |  | HE Supply Company, LLC.
|  |  | Holland Energy, LLC.
|  |  | Rio Nogales II, Inc.
|  |  | Rio Nogales I, Inc.
|  |  | University Park Energy, LLC.
|  |  | UP Supply, LLC.
|  |  | Wolf Hills Energy, LLC.
20070195 | Fortress Pinnacle Investment Fund, LLC | Crown Castle International Corp | Crown Castle International Corp.
20070202 | Merrill Lynch & Co., Inc | Petrie Parkman & Co., Inc | Petrie Parkman & Co., Inc.
20070213 | AT&T, Inc | 2Wire, Inc | 2Wire, Inc.
20070214 | Morgan Stanley | FrontPoint Partners, LLC | FrontPoint Partners, LLC.
20070229 | Internap Network Services Corporation | VitalStream Holdings, Inc | VitalStream Holdings, Inc.
20070235 | Berkshire Hathaway, Inc | Converium Holding AG, Zug | Converium Holdings (North America), Inc.
20070247 | Signature Hospital Holding, LLC | LifePoint Hospitals, Inc | ALL.
|  |  | c/o LifePoint Hospitals, Inc.
|  |  | LifePoint WV Limited, Partner, LLC.
|  |  | S.J. Ventures Properties, Limited Partnership.
|  |  | St. Joseph's Healthcare System, Limited Partnership.
20070252 | IDB Holding Corporation Ltd | Koor Industries Ltd | Koor Industries Ltd.
20070261 | Coconut Palm Acquisition Corp | Equity Broadcasting Corporation | Equity Broadcasting Corporation.
20070262 | Bank of America Corporation | Momentum Energy Group Inc | Momentum Energy Group Inc.
20070264 | Oracle Corporation | Stellent, Inc | Stellent, Inc.
20070265 | KKR European Fund II, Limited | Societe D'Investissement Familiale | Societe D'Investissement Familiale.
20070275 | Lincolnshire Equity Fund III, L.P | Dawn Enterprises Incorporated | Dawn Enterprises Incorporated.
20070283 | Stephen A. Wynn | Wynn Resorts, Limited | Wynn Resorts, Limited.
20070285 | MMP Capital Partners (QP), L.P | TCW Special Placements Fund III | Houston Harvest Gift Products, LLC.
TRANSACTIONS GRANTED EARLY TERMINATION—11/20/2006
20070096 | TPG-Axon Partners, LP | Triad Hospitals, Inc | Triad Hospitals, Inc.
20070097 | TPG-Axon Partners, (Offshore), Ltd | Triad Hospitals, Inc | Triad Hospitals, Inc.
20070231 | Thomas G. Dundon | HBOS plc | Drive Consumer USA Inc.
20070257 | Platinum Equity Capital Partners, L.P | Henry T. Swigert | ESCO Integrated Manufacturing Concord, Inc.
|  |  | ESCO Integrated Manufacturing Tempe, Inc.
20070268 | Automatic Data Processing, Inc | First Data Corporation | Taxware, LP.
20070273 | LRI Holdings, Inc | CBRL Group, Inc. | Logan's Roadhouse, Inc.
TRANSACTIONS GRANTED EARLY TERMINATION—11/21/2006
20070130 | Nautilus Holdings Acquisition Corp | General Electric Company | GE Bayer Specialties Srl.
|  |  | General Electric Canada.
|  |  | General Electric Plastics GmbH.
|  |  | GE NewCo Pte. Ltd-Singapore.
|  |  | GE OSI Industria de Silicones, Ltda.
|  |  | GE Quartz (China) Co. Ltd.
|  |  | GE Quartz Europe GmbH.
|  |  | GE Quartz, Inc.
|  |  | GE Sealants & Adhesives, Inc.
|  |  | GE Silicones, Inc.
|  |  | GE Specialty Materials Japan Co. Ltd.
|  |  | GE Supply Mexico, S. de R. L. de C.V.
|  |  | GE Toshiba Silicones Asia Pacific Ptd. Ltd.
|  |  | GE Toshiba Silicones Co., Ltd.
20070182 | DLJ Merchant Banking Partners IV, L.P | H.I.G. Capital Partners III, L.P | Total Safety U.S., Inc.
20070185 | Gerald W. Schwartz | SITEL Corporation | SITEL Corporation.
20070243 | Williams Partners L.P | The Williams Companies, Inc | Williams Four Corners LLC.
TRANSACTIONS GRANTED EARLY TERMINATION—11/22/2006
20070159 | Benchmark Electronics, Inc | Pemstar Inc | Pemstar Inc.
20070166 | Fox Paine Capital Fund III, L.P | KPS Special Situations Fund II (A), L.P | Wire Rope Corporation of America, Inc.
20070204 | Orica Limited | Close Brothers Private Equity Fund VI | Minova Holding Inc.
20070238 | CB Richard Ellis Group, Inc | Trammell Crow Company | Trammell Crow Company.
20070239 | Diamond Castle Partners IV, L.P | Barry Diller | PRC, LLC.
20070245 | Colam Enterprendre S.A | Robert C. Friedman and Pauline Friedman | Friedman Electric Supply Co., Inc.
20070253 | China National Chemical Corporation | Rhodia S.A | Rhodia Norge A/S.
|  |  | Rhodia OY.
|  |  | Rhodia Silicones Espana S.A.
|  |  | Rhodia Silicones Shanghai Co. Ltd.
|  |  | Rhodia Silicones Inc.
|  |  | Rhodia Silicones SAS.
|  |  | Rhodia Siliconi Italia S.p.A.
|  |  | Rhodia Specialty Silicones GmbH.
|  |  | Silicone Brasis—Participacoes Servicos e Comercio.
20070255 | Mitsui & Co., Ltd | Estate of Michael Zinn | SunWize Technologies, LLC.
20070288 | Ryanair Holdings plc | Aer Lingus Group plc | Aer Lingus Group plc.
TRANSACTIONS GRANTED EARLY TERMINATION—11/24/2006
20061839 | Nabor Industries Ltd | L. Charles Moncia, Jr | LM Industries, LLC.
|  |  | Moncia Well Service, Inc.

For Further Information Contact: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. 06-9618 Filed 12-8-06; 8:45 am]

BILLING CODE 6750-01-M